DEPARTMENT OF AGRICULTURE

Forest Service

Red Pines EIS Project, Nez Perce National Forest, Idaho County, ID

AGENCY: Forest Service, USDA.

ACTION: Revision of notice of intent.

Authorization: 40 CRF 1508.22.

SUMMARY: The Forest Service published a notice of intent to prepare an Environmental Impact Statement for the Red Pines Project published in the Federal Register on June 13, 2003 (68 FR 35377, June 13, 2003). Forest Service Policy mandates that a revised notice of intent (NOI) be filed when there is a major change in information included in a notice of intent. This notice announces a change in the Red Pines Project. For the Red Pines Project there is a major change. The project will now include actions that were originally proposed as part of the Red River Salvage project that was discussed in a Predecisional Environmental Assessment released in August 2003. The project area will increase from 31,500 acres to approximately 103,500 acres. The Forest Service will prepare an environmental impact statement to disclose the environmental impacts of implementing fuel hazard reduction and watershed improvement activities within the newly defined Red Pines project area.

DATES: Scoping comments received on either the original Red Pines or the Red River Salvage project will be addressed in the Red Pines draft environmental impact statement, expected to be released in August 2004.

It is not necessary to submit your comments again for them to be considered.

ADDRESSES: Send written comments to Bruce Bernhardt, Forest Supervisor, Nez Perce National Forest, Route 2 Box 475, Grangeville, ID 83530.

FOR FURTHER INFORMATION CONTACT: Ester Hutchison, Project Coordinator, (208) 983-1950.

SUPPLEMENTARY INFORMATION: The comment period on the draft environmental impact statement will be 45 days from the date the Environmental Protection Agency publishes the notice of availability in the Federal Register.

It is important to give reviewers notice of several court rulings related to public participation in the environmental review process. First, reviewers of draft environmental impact statements must structure their participation in the environmental review of the proposal so that it is meaningful an alerts and agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in the Red Pines project, as now defined, submit comments by June 18, 2004, so that substantive comments and objections are made available to the Forest Service at a time when it can meaningfully consider them and respond to them in the final environmental impact statement.

Dated: May 26, 2004.
Michael J. Cook,
Acting Forest Supervisor, Nez Perce National Forest.

[FR Doc. 04-12393 Filed 6-1-04; 8:45 am]

BILLING CODE 3410-11-M